ENVIRONMENTAL PROTECTION AGENCY

[OPP-100162; FRL-6757-4]

Arctic Slope Regional Corporation (ASRC) Aerospace; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Arctic Slope Regional Corporation (ASRC) Aerospace in accordance with 40 CFR 2.307(h)(3) and 2.308(i)(2). ASRC Aerospace has been awarded a contract to perform work for OPP, and access to this information will enable ASRC Aerospace to fulfill the obligations of the contract.

DATES: ASRC Aerospace will be given access to this information on or before December 11, 2000.

FOR FURTHER INFORMATION CONTACT: By mail: Erik R. Johnson, FIFRA Security Officer, Information Resources and Services Division (7502C), Office of Pesticide Programs, Environmental Protection Agency, 1200 Pennsylvania Ave., NW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Contractor Requirements

Under contract number 68-W0-0102, work assignment 001, the contractor will perform the following:

The Public Information and Records Integrity Branch in responding to Freedom of Information Act (FOIA) requests and public inquiries expeditiously shall use contractor services to perform distinct tasks in a multi-task response process, such as gathering records identified as responsive by EPA, filling out standard response forms in accordance with office procedures, packaging the response after completion by the EPA caseworker, compiling documents to assist information collection activities, and managing an OPP/FOIA website and records/internal computer systems associated with this work.

The contractor will process FOIA requests assigned to OPP and maintain appropriate case files and records which may involve all pending and registered sensitive information.

The contractor must have access to CBI in order to conduct records management activities associated with the OPP's FOIA and public response activities.

This contract involves no subcontractors.

OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with ASRC Aerospace, prohibits use of the information for any purpose not specified in the contract; prohibits disclosure of the information to a third party without prior written approval from the Agency; and requires that each official and employee of the contractor sign an agreement to protect the information from unauthorized release and to handle it in accordance with the FIFRA Information Security Manual. In addition, ASRC Aerospace is required to submit for EPA approval a security plan under which any CBI will be secured and protected against unauthorized release or compromise. No information will be provided to ASRC Aerospace until the requirements in this document have been fully satisfied. Records of information provided to ASRC Aerospace will be maintained by EPA Project Officers for the contract. All information supplied to ASRC Aerospace by EPA for use in connection with the contract will be returned to EPA when ASRC Aerospace has completed its work.

List of Subjects

Environmental protection, Business and industry, Government contracts, Government property, Security measures.

Dated: November 28, 2000.
Joanne Martin,
Acting Director, Information Resources and Services Division, Office of Pesticide Programs.

[FR Doc. 00-31061 Filed 12-5-00; 8:45 am]

BILLING CODE 6560-50-S